DEPARTMENT OF COMMERCE

International Trade Administration

Notice of Allocation of Tariff Rate Quotas on the Import of Certain Worsted Wool Fabrics for Calendar Year 2001

July 10, 2001.

AGENCY: Department of Commerce, International Trade Administration.

ACTION: Notice of Allocation of Worsted Wool Fabric Tariff Rate Quota

FOR FURTHER INFORMATION CONTACT: Sergio Botero, Office of Textiles and Apparel, U.S. Department of Commerce, (202) 482-4058.

The Department of Commerce (Department) has determined the allocation for calendar year 2001 of imports of certain worsted wool fabrics under tariff rate quotas established by Title V of the Trade and Development Act of 2000. The companies that are being provided an allocation are listed below.

Background

Title V of the Trade and Development Act of 2000 (the Act) creates two tariff rate quotas, providing for temporary reductions in the import duties on two categories of worsted wool fabrics suitable for use in making suits, suit-type jackets, or trousers. For worsted wool fabric with average fiber diameters greater than 18.5 microns (new Harmonized Tariff Schedule of the United States (HTS) heading 9902.51.11), the reduction in duty is limited to 2,500,000 square meter equivalents per year. For worsted wool fabric with average fiber diameters of 18.5 microns or less (new HTS heading 9902.51.12), the reduction is limited to 1,500,000 square meter equivalents per year. Both these limitations may be modified by the President, not to exceed 1,000,000 square meter equivalents per year for each tariff rate quota. The Act requires the President to take action to ensure that such fabrics are fairly allocated to persons (including firms, corporations, or other legal entities) who cut and sew men‘s and boys‘ worsted wool suits and suit-like jackets and trousers in the United States and who apply for an allocation based on the amount of such suits cut and sewn during the prior calendar year. Presidential Proclamation 7383 of December 1, 2000, authorized the Secretary of Commerce to allocate the quantity of worsted wool fabric imports under the tariff rate quotas. On January 22, 2001, the Department published regulations establishing procedures for applying for, and determining, such allocations. 66 FR 6459, 15 C.F.R. 335.

On March 14, 2001, the Department published a notice soliciting applications for an allocation of the 2001 tariff rate quotas with a closing date of April 13, 2001. The Department received timely applications for the HTS 9902.51.11 tariff rate quota from 12 firms. The Department received timely applications for the HTS 9902.51.12 tariff rate quota from 15 firms. All applicants were determined to be eligible for an allocation. The Department determined the appropriate allocations in accordance with 15 C.F.R. 335.

Most applicants submitted data on a business confidential basis. As allocations to firms were determined on the basis of this data, the Department considers individual firm allocations to be business confidential.

Firms That Received Allocations

1. HTS 9902.51.11, fabrics, of worsted wool, with average fiber diameter greater than 18.5 micron, certified by the importer as suitable for use in making suits, suit-type jackets, or trousers (provided for in subheading 5112.11.20 and 5112.19.90)

Amount Allocated: 2,500,000 square meter equivalents

Companies Receiving Allocation: |
American Fashion, Inc. | Chula Vista, CA
Bowdon Manufacturing Company | Bowdon, GA
C.K. Apparel Corporation | New York, NY
Corbin Ltd. | Ashland, KY
Hartmarx Corporation | Chicago, IL
Hartwick Clothes | Cleveland, TN
Hartz & Company | Frederick, MD
Hugo Boss Cleveland, Inc. | Brooklyn, OH
J.A. Apparel Corporation | New York, NY
John H. Daniel Company | Knoxville, TN
Pincus Brothers, Inc. | Philadelphia, PA
The Tom James Company | Franklin, TN

2. HTS 9902.51.12, fabrics, of worsted wool, with average fiber diameters of 18.5 micron or less, all the foregoing certified by the importer as suitable for use in making suits, suit-type jackets, or trousers (provided for in subheading 5112.11.20 and 5112.19.90)

Amount Allocated: 1,500,000 square meter equivalents

Companies Receiving Allocation: |
American Fashion, Inc. | Chula Vista, CA
Brooks Brothers, Inc. | New York, NY
C.K. Apparel Corporation | New York, NY
Corbin Ltd. | Ashland, KY
Dormevil Personal Tailoring | New York, NY
Hartmarx Corporation | Chicago, IL
Hartwick Clothes | Cleveland TN
Hartz & Company | Frederick, MD
Hugo Boss Cleveland, Inc | Brooklyn, OH
J.A. Apparel Corporation | New York, NY
John H. Daniel Company | Knoxville, TN
Martin Greenfield Clothiers | Brooklyn, NY
Pincus Brothers, Inc. | Philadelphia, PA
Saint Laurie, Ltd. | New York, NY
The Tom James Company | Franklin, TN

Dated: July 10, 2001.
Jonathan C. Menes,
Acting Assistant Secretary for Trade Development, Department of Commerce

[FR Doc. 01-18954 Filed 7-30-01; 8:45 am]

BILLING CODE 3510-DR-F